DEPARTMENT OF JUSTICE

Notice of Lodging of Proposed Consent Decree Under the Comprehensive Environmental Response, Compensation, and Liability Act (CERCLA)

Notice is hereby given that on November 9, 2009, a proposed Consent Decree was filed with the United States District Court for the District of Idaho in United States v. City of St. Maries, et al., No. 09-cv-00577 (D. Idaho). The proposed Consent Decree was entered into by the United States; the Coeur d'Alene Indian Tribe; the municipality the City of St. Maries, Idaho; Carney Products Co., Ltd.; and U.S. Bank National Association, as Trustee of the Testamentary Trust of Milo P. Flannery Fbo Jerome F. Nevin; Testamentary Trust of Milo P. Flannery Fbo Charlee O'malley; Living Family Trust of Maud O. Flannery Fbo Jerome F. Nevin; Living Family Trust of Maud O. Flannery Fbo Charlee O'malley; Living Charitable Trust of Maud O. Flannery Fbo Gonzaga University; Living Charitable Trust of Maud O. Flannery Fbo Gonzaga Preparatory School; Testamentary Trust of Aileen Flannery Nevin, Fund a Fbo John C. Nevin; and Testamentary Trust of Aileen Flannery Nevin, Fund B Fbo John C. Nevin, Jerome F. Nevin and Charlee O'malley; and Arcadis U.S., Inc., and resolves the United States' claims against the Defendants under Sections 106 and 107 of CERCLA, 42 U.S.C. 9606 and 9607.

Under the terms of the Consent Decree, the Defendants and their work contractor, Arcadis U.S., Inc., who is also a signatory, will perform EPA's selected remedy at the Site, estimated to cost in excess of $12 million. The Defendants will also reimburse $555,951.23 of the United States' past response costs.

The Department of Justice will receive comments relating to the proposed Consent Decree for a period of thirty (30) days from the date of this publication. Comments should be addressed to the Assistant Attorney General, Environment and Natural Resources Division, and either emailed to pubcomment-ees.enrd@usdoj.gov or mailed to P.O. Box 7611, U.S. Department of Justice, Washington, DC 20044-7611, and should refer to United States v. City of St. Maries, et al., DJ Ref. No. 90-11-3-06673.

The proposed Agreement may be examined at the Office of the United States Attorney for the District of Idaho, 800 Park Blvd., Suite 600, Boise, Idaho 83712, and at the Environmental Protection Agency, Region 10, 1200 Sixth Avenue, Suite 900, Seattle, WA 98101. During the public comment period, the proposed Agreement may also be examined on the following Department of Justice Web site, http://www.usdoj.gov/enrd/Consent_Decrees.html. A copy of the proposed Agreement may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $13.50 (without attachments) or $106.25 (with attachments) (25 cents per page reproduction cost) payable to the U.S. Treasury.

Maureen Katz,
Assistant Section Chief, Environmental Enforcement Section, Environment and Natural Resources Division.

[FR Doc. E9-27425 Filed 11-16-09; 8:45 am]

BILLING CODE 4410-15-P